DEPARTMENT OF TRANSPORTATION

Federal Aviation Administration

14 CFR Part 73

[Docket No. FAA-2018-1080; Airspace Docket No. 18-AGL-26]

RIN 2120-AA66

Amendment of Restricted Areas R-5502A and R-5502B; Lacarne, OH

AGENCY: Federal Aviation Administration (FAA), DOT.

ACTION: Final rule; technical amendment; correction.

SUMMARY: This action corrects a final rule technical amendment published in the Federal Register of February 12, 2019, that amends the using agency for restricted areas R-5502A and R-5502B, amends the controlling agency information for R-5502A, and adds exclusion language to the R-5502B boundaries information. This action corrects a typographical error listed in the effective date of that rule.

DATES: Effective date: 0901 UTC April 25, 2019.

FOR FURTHER INFORMATION CONTACT: Colby Abbott, Airspace Policy Group, Office of Airspace Services, Federal Aviation Administration, 800 Independence Avenue SW, Washington, DC 20591; telephone (202) 267-8783.

SUPPLEMENTARY INFORMATION:

History

The FAA published a final rule; technical amendment in the Federal Register (84 FR 3299; February 12, 2019) for Docket No. FAA-2018-1080 amending restricted areas R-5502A and R-5502B; Lacarne, OH. Subsequent to publication, the FAA identified a typographical error for the date listed in the effective date; the correct effective date is April 25, 2019. This action corrects that error.

Correction to Final Rule; Technical Amendment

Accordingly, pursuant to the authority delegated to me, Amendment of Restricted Areas R-5502A and R-5502B; Lacarne, OH, published in the Federal Register of February 12, 2019 (84 FR 3299), FR Doc. 2019-02065, is corrected as follows:

On page 3300, column 1, lines 4 and 5, remove the text “April 24, 2019” and add in its place “April 25, 2019.”

Issued in Washington, DC, on February 28, 2019.
Rodger A. Dean Jr.,
Manager, Airspace Policy Group.

[FR Doc. 2019-04156 Filed 3-6-19; 8:45 am]

BILLING CODE 4910-13-P